DEPARTMENT OF HEALTH AND HUMAN SERVICES

Susbstance Abuse and Mental Health Services Administration

Statement of Organization, Functions, and Delegations of Authority

Part M of the Substance Abuse and Mental Health Services Administration (SAMHSA) Statement of Organization, Functions, and Delegations of Authority for the Department of Health and Human Services as amended most recently at 63 FR 1112-1113, January 8, 1998 and 61 FR 39146-39151, July 26, 1996 is being amended. The changes are to update and realign SAMHSA organization structure as a result of it delayering efforts to streamline the administrative functions, which will strengthen SAMHSA's programs and allow SAMHSA to more effectively use its resources. For instance, this reorganization will consolidate all administrative, policy and budgeting functions within the Office of the Administrator. The changes are as follows:

I. Delete Part M, Substance Abuse and Mental Health Administration in its entirety and replace with the following:

Substance Abuse and Mental Health Services Administration

M.00 Mission

M.10 Organization

M.20 Functions

M.30 Order of succession

M.40 Delegation of Authority

Section M.00 Mission. The mission of the Substance Abuse and Mental Health Services Administration is to improve the quality and availability of treatment and prevention services for people with substance abuse and mental illness.

Section M.10 Organization: The Substance Abuse and Mental Health Services Administration is an Operating Division under the direction of an Administrator who reports directly to the Secretary, and include the following components:

• Office of the Administrator (MA)

• Office of Applied Studies (MC)

• Office of Program Services (MB)

• Center for Mental Health Services (MS)

• Center for Substance Abuse Prevention (MP)

• Center for Substance Abuse Treatment (MT)

Section M.20 Functions

A. Office of the Administrator (MA). The Administrator is responsible to the Secretary for managing and directing SAMHSA. The office functions are as follows: (1) Provides leadership in the development of agency policies and programs; (2) maintains liaison with the Office of the Secretary on matters related to program and other activities; (3) provides oversight for coordination between SAMHSA and the National Institutes of Health (NIH) on the conduct of research and the dissemination of research findings in the areas of alcohol, drug abuse, and mental health; (4) develops Agency strategic plans and conducts, analyzes, and supports future planning activities; (5) analyzes legislative issues, and maintains liaison with congressional committees; (6) provides leadership and guidance in developing and implementing Agency plans to meet women's substance abuse and mental health services needs; (7) coordinates Agency minority affairs activities; (8) coordinates service quality and financing activities; (9) coordinates Agency-wide AIDS activities; (10) coordinates Agency communications and conducts public affairs activities; and (11) provides agency-wide correspondence control services.

1. Immediate Office of the Administrator (MA-1). Provides leadership and direction to the program and activities of the Substance Abuse and Mental Health Services Administration as follows: (1) Responsible for program policy development; (2) provides liaison with other HHS components, other Federal organizations, the Office of the National Drug Control Policy, and outside groups; (3) provides oversight for coordination between SAMHSA and the National Institutes of Health; (4) provides correspondence control for the Agency and controls all Agency public correspondence; and (5) analyzes legislative issues, and maintains liaison with congressional committees.

2. Office of Communications (MAB). Provides leadership in the development of SAMHSA's priorities, strategies, and practices for effective communications to targeted public audiences, including relations with the media; and serves as a focal point for communications activities as follows: (1) Coordinates agency communications activities; (2) plans public events, including press conferences, speeches, and site visits for the Administrator, other SAMHSA officials, and DHHS representatives; (3) publishes SAMHSA brochures, fact sheets, and quarterly issues of SAMHSA News; (4) coordinates electronic dissemination of information, within the Agency and through the Internet and World-Wide Web; (5) develops communications channels and targets media placements; (6) develops and disseminates news releases and coordinates media contacts with Agency representatives; (7) provides editorial and policy review of all Agency publications; (8) fulfills public affairs requirements of DHHS; (9) provides agency contributions to the DHHS forecast report on significant activities; (10) manages the Agency conference exhibit program; and (11) responds to Freedom of Information Act requests.

3. Office of Policy, Planning and Budget (MAC). (1) Develops Agency policy for the Administrator and senior staff; (2) manages the Agency-wide planning process, including strategic planning, identification of policy priorities, and other Agency-wide and departmental planning activities; and, (3) manages the budget formulation process and provides policy guidance for the Guidance for Applicants (GFAs) development process.

a. Division of Policy Coordination (MAC-1). (1) Develops policy recommendations and issues for the Administrator and senior leadership and manages the coordination and implementation of the Agency's national program policies; (2) coordinates the Administrator's program priorities and principles as they relate to policy; (3) provides expertise for Agency leadership in issues and initiatives for alcohol, HIV/AIDS, minority health, and women's services; and, (4) manages the Agency's coordination of departmental and Presidential initiatives, nationally and internationally.

b. Division of Planning and Budget (MAC-2). (1) Manages the planning process for SAMHSA; (2) manages the budget formulation process by coordinating budget plans, formulating and presenting future budget activities, and preparing budget justification documents; (3) develops the Government Performance and Results Act (GPRA) process for SAMHSA, oversees progress in attaining goals, and reports accomplishments; (4) provides policy guidance for the GFA development process; (5) supports the Administrator in formulating and carrying out the Agency's role as it relates to extramural policies and participation in HHS and other interagency initiatives; and, (6) manages the SAMHSA National Advisory Council and the SAMHSA Joint Advisory Council.

B. Office of Applied Studies (MC). (1) Collects information as required by statute on the incidence, prevalence, trends, correlates, and the economic, behavioral and medical consequences of substance abuse and mental health problems in the United States; (2) collects information as required by statute on the number, characteristics, conduct, and performance of facilities and organizations providing prevention and treatment services for substance abuse at the national, state and local level; (3) plans, directs,and conducts studies based on data collected by the Office of Applied Studies and other organizations of issues associated with substance abuse and mental health problems; (4) designs and carries out special data collection and analytic projects to examine topical issues for SAMHSA and other Federal agencies; (5) conducts epidemiological, statistical, and policy studies of existing or emerging issues; (6) provides information for program evaluation activities of the Agency; (7) manages Agency activities associated with the Paperwork Reduction Act and the Office of Management and Budget clearance of information collection activities; and (8) prepares reports and disseminates findings through Agency publications, the press, scientific journals, and electronic systems.

1. Office of the Director (MC-1). (1) Provides overall leadership for the Office of Applied Studies; (2) determines that data collection and analytic activities are consistent with the mission and priorities of the Department and the Agency; (3) advises the Administrator and other Agency officials and staff on policy and technical issues associated with collecting information on substance abuse and mental health problems; and (4) serves as Agency liaison to the Office of the Secretary, the Office of National Drug Control Policy, the Drug Enforcement Administration, and other Federal agencies; to State and local government agencies; and to non-governmental organizations and institutions on matters related to the collection and analysis of data on substance abuse and mental health problems.

2. Division of Population Surveys (MCA). (1) Plans, develops, and manages the National Survey on Drug Use and Health (the Household Survey) and other surveys of the population to obtain information on substance abuse and mental health problems; (2) develops, implements, and evaluates new statistical and data collection methods, questionnaires, and sampling strategies for surveys; (3) analyzes information obtained from surveys conducted by the Office of Applied Studies to determine the incidence, prevalence, correlates, and consequences of substance abuse; (4) analyzes data from the Household Survey and related sources of information to examine program and policy issues and evaluate the impact of various Federal initiatives related to substance abuse; (5) prepares statistical publications, special reports, and analyses based on information derived from the Household Survey and other surveys of the population; and (6) serves as a source of expertise on substance abuse survey methods, sampling design, statistics, and analytic techniques for SAMHSA and the Department.

3. Division of Operations (MCB). (1) Manages the operational activities of the Office of Applied Studies (OAS) including development of the budget, oversight of procurement, and personnel; (2) manages SAMHSA responsibilities under the Paperwork Reduction Act, including the process for obtaining Office of Management and Budget clearance for information collection activities; (3) develops methods for and collects information through the Drug Abuse Warning Network (DAWN), the Drug and Alcohol Services Information System (DASIS), and other data collection projects on admissions to and services provided by treatment programs in the United States; (4) prepares statistical publications and reports based on data obtained from DAWN, DASIS, and other sources; (5) manages the process for clearing, publishing, and disseminating studies and reports produced by OAS; (6) provides computer support for OAS; and (7) organizes and manages various meetings to obtain advice and assistance from States with respect to the structure and content of OAS surveys.

4. Division of Analysis (MCC). (1) Conducts epidemiologic, behavioral, demographic, and economic studies on topics of major and immediate concern in the area of substance abuse and mental health care; (2) conducts policy research on issues relevant to the demand for treatment for substance abuse and mental health problems and the supply of services; (3) determines the annual allotment of Block Grant funds to States and Territories for substance abuse prevention and treatment and mental health services, and provides information and expertise to SAMHSA, the Department, and the States on issues related to the formula in accordance with legislative authorities; (4) directs special studies to examine such questions as the validity of data collection strategies such as those employed by the Drug Abuse Warning Network and the Drug and Alcohol Services Information System, the costs and long term effects of substance abuse treatment, and the problems and access to care of special populations; (5) manages special contracts developed to analyze data from multiple sources; and (6) provides advice and expertise to other components of SAMHSA and the Department on research topics and the design of studies relevant to concerns in the areas of substance abuse and mental health.

C. Office Of Program Services (MB). The Office of Program Services works in partnership with other SAMHSA and HHS components in managing, providing leadership, and ensuring SAMHSA's needs are met in the following service areas: information resources management (IRM), financial management, human resources management, grants and contracts management, administrative services, grant and contract application review, equal employment opportunity, civil rights, and organizational development and analysis.

1. Office of the Director (MB-1). (1) Provides leadership and guidance, oversees and monitors the range of administrative and program services which are provided to all SAMHSA components; (2) provides general policy review and executive oversight of crosscutting management and administrative issues; (3) streamlines, improves, and integrates administrative services and systems; (4) coordinates crosscutting tasks and initiatives; (5) processes both informal and formal complaints of employment discrimination under three primary statutes; (6) plans and administers a coordinated Agency special emphasis/affirmative employment program, including the SAMHSA affirmative employment plan; (7) manages the reasonable accommodations process regarding employee disabilities; (8) develops internal civil rights compliance policy for the Agency and serves as the focal point for civil rights and related issues; and (9) tracks and measures administrative program performance.

2. Division of Information Resources Management (MBA). (1) Provides leadership, guidance, and technical expertise in the Agency's transition from conventional information systems to a data base environment, including the continual improvement of Agency systems; (2) coordinates Agency-wide database administration and systems configuration management; (3) serves as the focal point for Agency-wide information resources management, office automation and information systems policy, strategic planning, budget preparation, coordination, and security; (4) maintains information resources management support through the local area network (LAN); (5) maintains, operates, and provides services, or coordinates with other service components, for the LAN and personal computers, databases, voice mail/faxes, and general machine repairs; (6) exercises clearance authority for Agency-wide information resources management and office automation projects and procurement; and (7) provides advice, assistance, and training to Agency staff in obtaining maximum utilization of and services from its information systems and databases; (8) trains Agency staff in the use of new products and applications as necessary; (9) develops and secures new programming software to meet individual program requirements, as well as broad Agency needs; (10) reviews and analyzes new information resources management developments and ensures necessary support services are provided; and (11) initiates and carries out studies to implement improvements in systems and services.

3. Division of Extramural Program Management (MBB). (1) Provides leadership and direction in the management of SAMHSA's extramural grant and contract programs; (2) conducts all aspects of the SAMHSA grants management process; (3) conducts all aspects of the SAMHSA contracts management process; (4) plans, administers, and coordinates review of all grant and contract proposals; (5) provides guidance to Agency staff, applicants, and awardees on the management and administrative aspects of extramural programs; (6) develops SAMHSA policies and procedures regarding the administrative management of extramural programs; (7) prepares reports and responds to information requests; and (8) measures and tracks extramural program performance.

4. Division of Administrative Services (MBG). (1) Provides centralized administrative services for the Agency, including processing and coordinating requests for and providing advice on procurement actions, travel, property, facilities, personnel and other activities; (2) coordinates actions as necessary with other HHS components such as the Program Support Center (PSC) accounting and procurement staffs, and the contract travel agency; (3) evaluates internal fiscal controls to assure compliance with laws, regulations, policies, and sound business practices; (4) manages overall Agency budget execution, including the apportionment and allotment processes, overhead and assessment changes, and monitoring of expenditures; (5) manages expenditure plans and their execution such as program reserve, block grant set-asides, and Agency operating costs; (6) manages and tracks FTE allocations and staffing levels; and (7) coordinates Agency responses to outside financial management initiatives, such as financial aspects of the Government Performance and Results Act, and audited financial statements.

5. Division of Management Systems and Analysis (MBC). (1) Provides leadership in the development of policies for and the analysis, performance measurement, and improvement of SAMHSA administrative and management systems; (2) coordinates the provision of central human resource management services, working with HHS service components and outside organizations as necessary and monitoring their performance; (3) manages the SAMHSA ethics program; (4) coordinates and serves as a focal point for SAMHSA intern and summer employment programs; (5) provides advisory services to managers and supervisors in such matters as organizational development, analysis, performance, and performance measurement; (6) coordinates General Accounting Office and Office of the Inspector General reviews and information requests, internal control reviews, and Federal Managers Financial Integrity Act responses; (7) plans and coordinates various management activities such as records management, forms management, Privacy Act, and OPS Freedom of Information Act requests; (8) develops, maintains, and manages administrative management systems regarding policies and procedures; and (9) measures and tracks program performance in all areas of administrative management.

D. Center for Mental Health Services (MS). The mission of the Center for Mental Health Services (CMHS) is to promote effective mental health services in every community. CMHS provides national leadership to ensure the application of scientifically established findings and practice-based knowledge in the prevention and treatment of mental disorders; to improve access, reduce barriers, and promote high quality effective programs and services for people with, or at risk for, these disorders, as well as for their families and communities; and to promote an improved state of mental health within the Nation, as well as the rehabilitation of people with mental disorders.

1. Office of the Director (MS-1). (1) Provides leadership in planning, implementing, and evaluating the Center's goals, priorities, policies, and programs, including equal employment opportunity, and is the focal point for the Department's efforts in mental health services; (2) plans, directs, and provides overall administration of the programs of CMHS; (3) conducts and coordinates Center interagency, interdepartmental, intergovernmental, and international activities; (4) provides information to the public and constituent organizations on CMHS programs; (5) maintains liaison with national organizations, other Federal departments and agencies, the National Institute of Mental Health and with other SAMHSA Centers; (6) administers committee management and reports clearance activities; (7) promotes the prevention of HIV infection in people at risk, the delivery of effective mental services for people with HIV infection, and the education of health care providers to address the neuropsychiatric and the psycho-social aspects of HIV infection and AIDS; (8) conducts services quality and financing activities and coordinates these activities with other components in SAMHSA; (9) conducts consumer affairs activities; and, (10) monitors the conduct of equal employment opportunity activities of CMHS.

2. Office of Program Analysis and Coordination (MSA). (1) Supports the Center's implementation of programs and policy by providing guidance in the administration, analysis, planning, and coordination of the Center's programs, consistent with agency priorities; (2) manages the Center's participation in the agency's policy planning, budget formulation, program development and clearance, and internal and external requests, including strategic planning, identification of program priorities, and other agency-wide and departmental planning exercises; and (3) performs Center-specific functions such as support for the Center Director, impact analysis of proposed legislation and rule making, council management, support and liaison for administrative functions, special studies, data analysis and coordination, liaison for special populations/initiatives, GPRA reporting, performance partnerships, and regulatory activities.

3. Division of Prevention, Traumatic Stress and Special Programs (MSC). (1) Serves as the focal point in planning for alcohol, drug abuse, and mental health services during national disasters; (2) cooperates with the Office of Emergency Preparedness and the Federal Emergency Management Agency (FEMA) and other Federal agencies to coordinate disaster assistance, community response, and other mental health emergency services as a consequence of national disasters or mass criminal events, such as terrorism and school shootings; (3) serves as a focal point for refugee mental health programs, including liaison with other Federal agencies; (4) conducts program development activities and engages with the faith community, when appropriate, to promote effective programs and policies to special populations including women, minorities, youth in juvenile justice facilities, and elderly persons living in rural areas; and (5) administers violence and suicide prevention programs, trauma and terrorism/bio-terrorism initiatives, and programs that prevent mental and behavioral disorders and promote mental health and resilience across the life cycle.

4. Division of State and Community Systems Development (MSE). (1) Administers the Community Mental Health Services Block Grant, including monitoring State implementation of the Mental Health State Plan, compliance with the provisions of the Public Health Service Act, as amended, regarding use of the payments and maintenance of effort; (2) provides technical assistance to the States with respect to the planning, development, financing, and operation of programs or services carried out pursuant to the block grant program; (3) administers a program of State human resource development; (4) plans and supports programs of mental health education, with emphasis on targeted populations; (5) plans and supports programs to provide protection and advocacy services for persons with severe mental disorders; and (6) supports programs for: (a) obtaining, analyzing, and disseminating national statistics on mental health services, (b) developing methodologies for data collection in biometry and mental health economics, and (c) consulting with and providing technical assistance to State and local mental health agencies on statistical methodology, mental health information systems, and the use of statistical and demographic data.

5. Division of Service and Systems Improvement (MSF). (1) Develops, plans, implements, and monitors national activities designed to improve systems and service delivery for persons with, or at risk for, mental health problems; (2) directs a clearinghouse that serves as a one-stop information and referral service for the public, consumers and family members, educators, policy makers, and for those who design, finance, and deliver mental health services;(3) administers the Projects for Assistance in Transition from Homelessness (PATH) program; and (4) directs the Comprehensive Community Mental Health Services for Children with Serious Emotional Disturbances Program; (5) places priority on two target populations, adults with severe mental illness (including those who are homeless) and children and adolescents with serious mental disturbances; (6) emphasizes acquisition, exchange, and application of knowledge in all of its activities; (7) develops guidance for applications and requests for contracts to implement these activities; (8) monitors grants, cooperative agreements, contracts, interagency agreements, and memoranda of understanding; (9) identifies needs for and provides technical assistance to a variety of customers through both direct and indirect activities, including the development of standards and guidelines; (10) establishes and maintains collaborative relationships with other Federal, State, and local governmental agencies, national organizations, local communities, providers, consumers, and families; and (11) promotes adoption of practices in communities through the Nation by synthesizing knowledge, exchanging information, and providing opportunities for consensus building.

E. Center for Substance Abuse Prevention (MP). The mission of the Center for Substance Abuse Prevention (CSAP) is to bring effective prevention to every community. CSAP provides national leadership in the development of policies, programs and services to prevent the onset of illegal drug use, underage alcohol and tobacco use, and to reduce the negative consequences of using substances. CSAP disseminates effective substance abuse prevention practices and builds the capacity of States, communities and other groups to apply prevention knowledge effectively. An integrated systems approach is used to coordinate these activities and collaborate with other Federal, State, public and private organizations.

1. Office of the Director (MP-1). (1) Provides leadership, coordination, and direction in the development and implementation of CSAP goals and priorities, and serves as the focal point for the Department's efforts on substance abuse prevention; (2) plans, directs, and provides overall administration of the programs and activities of CSAP; (3) provides leadership and expert medical, clinical, and technical assistance in the identification of new and emerging issues and the integration of primary medical care and early intervention knowledge and information into major CSAP program efforts; (4) organizes and manages CSAP's special projects; and (5) monitors the conduct of the equal employment opportunity activities of CSAP.

2. Office of Program Analysis and Coordination (MPA). (1) Supports the Center's implementation of programs and policy by providing guidance in the administration, analysis, planning, and coordination of the Center's programs, consistent with agency priorities; (2) manages the Center's participation in the Agency's policy planning, budget formulation, program development and clearance, and internal and external requests, including strategic planning, identification of program priorities, and other Agency-wide and departmental planning activities; and (3) performs Center-specific functions such as impact analysis of proposed legislation and rule making, council management, support and liaison for administrative functions, special studies, data analysis and coordination, liaison for special populations/initiatives, GPRA reporting, performance partnerships, and regulatory activities.

3. Division of State and Community Systems Development (MPB). (1) Promotes and establishes comprehensive, long-term State and community alcohol, tobacco, and other drug abuse prevention/intervention strategies, programs, and support activities; (2) reviews, approves and administers the primary prevention set-aside of the Substance Abuse Prevention and Treatment (SAPT) Block Grant and reviews and analyzes the SAPT plans submitted by the States; (3) administers community and State Targeted Capacity Expansion grant programs and cooperative agreements to support and enhance comprehensive and effective State and community substance abuse prevention systems, drug prevention coalitions and related health promotion systems; (4) develops and updates regulations, core performance measures and/or guidelines for the use of the primary prevention and tobacco provisions of SAPT; (5) provides technical assistance and capacity-building to States and communities in the planning, development, and operation of prevention programs and systems; (6) promotes interagency collaboration with both the public and private sectors at the Federal, State and local levels, including, among others, foundations, business, industry, labor, law enforcement, education, faith communities, health and social welfare entities, to optimize the use of fiscal and human resources and needed program development in new and existing prevention systems nationally; (7) develops guidelines for state-of-the-art prevention programs and systems while conducting quality assurance activities such as the Block Grant performance measures initiative and developing prevention guidance documents; (8) compiles State and local prevention outcome findings, national cross site evaluation findings and promising practices to support CSAP's on-going capacity-building role; (9) develops and integrates needs assessment and management information system data into State and community prevention systems for the improvement of planning efforts in substance abuse prevention nationally; (10) administers the Synar regulations governing youth access to tobacco products; and (11) provides overall support, training and technical assistance in integrating effective substance abuse prevention into managed health care systems.

4. Division of Knowledge Application and System Improvement (MPC). (1) Provides leadership in advancing CSAP's substance abuse, HIV/AIDS and emergent substance abuse issues agenda by employing a broad range of mechanisms; (2) conducts extramural evaluation studies at the individual, family, community and systems levels; (3) manages the grant program portfolios; (4) conducts national cross-site evaluation studies on the portfolio of knowledge application grant programs; (5) conducts secondary analysis of original prevention research studies; (6) synthesizes knowledge acquired through grants, cooperative agreements, contracts, and field input; (7) promotes the development of new methodologies and advocates use of rigorous methods for conducting prevention studies and evaluating service provision; (8) supports professional development in the science of prevention; (9) helps develop extramural policy; (10) provides information to CSAP and other SAMHSA components, other HHS components, the Congress, and other Federal entities concerning the most effective prevention approaches that focus on the prevention needs of individuals and families affected by co-occurring drug, alcohol, mental, and/or physical health problems; (11) collaborates with other Federal departments and agencies that are relevant to CSAP's mission, including the National Institutes of Health, the Agency for Health Care Research and Quality, the Administration for Children and Families, the Centers for Disease Control and Prevention, and the Office of Disease Prevention and Health Promotion; (12) identifies effective programs developed by government, foundations and private industry through its National Registry of Effective Prevention Programs; (13) ensures accountability by identifying, promoting and monitoring the national implementation of science-based prevention programs.

5. Division of Workplace Programs (MPE). (1) Establishes goals and objectives in the administration of a national program designed to promote substance abuse free workplaces; (2) provides leadership and oversight to assure that effective employee assistance programs are developed and evaluated to prevent substance abuse in the workplace; (3) develops, implements, and evaluates employee education/prevention programs, access to counseling, early intervention, and referral treatment/rehabilitation, and support services for employees following treatment/rehabilitation; (4) advises, coordinates, and certifies activities related to the implementation and administration of Federal drug free workplace programs, convenes the Drug Testing Advisory Board, and conducts surveys on Federal programs; (5) advises other SAMHSA components and HHS regarding workplace programmatic directions and actions and enters into collaborative arrangements with other Federal agencies; (6) collaborates in the development and implementation of substance abuse prevention and early intervention strategies for public/private sector use at the State and community levels, and operates the Workplace Hotline Contract as a means for dissemination, outreach and technical assistance to businesses, States and communities; (7) provides technical assistance to facilitate national training and certification programs for substance abuse professionals and practitioners, provides staff expertise in training and credentialing standards for Medical Review Officers (MROs) and the Department of Transportation mandated Substance Abuse professionals; (8) provides leadership within SAMHSA in the development, training and use of the geographic information system (GIS) to support policy development for Federal substance abuse prevention, initiatives; (9) provides leadership within SAMHSA and the field in developing and disseminating knowledge in workplace violence related to substance abuse, including risk factors in the workplace and community and the role of the workplace as a substance abuse and violence prevention agent within the community and family; and (10) evaluates managed care and other treatment provider practices as they are applied in the workplace.

6. Division of Prevention Education and Dissemination (MPF). (1) Provides national leadership in the development, coordination, and assessment of information for purposes of knowledge transfer and application; (2) develops and disseminates information and knowledge about alcohol, tobacco, and drugs; (3) assesses the need for, and promotes the development and widespread use of, prevention and intervention-related messages, materials and technologies by national, State and community organizations, especially directed towards traditionally under-served audiences and those at high risk; (4) develops and coordinates national media campaigns and stimulates media coverage of substance abuse issues with an emphasis on prevention; (5) prepares and acquires materials based on needs of target audiences; (6) manages the CSAP National Clearinghouse for Alcohol and Drug Information and the Regional Alcohol and Drug Awareness Resource Network; (7) demonstrates national leadership in electronic information technologies through PREVLine, the Internet, and other mechanisms; (8) develops, in collaboration with other CSAP offices, material and technologies which provide learning opportunities for CSAP staff; (9) promotes and provides training and technical assistance for increased capacity of State agencies and key constituent organizations to carry out knowledge transfer and application activities; (10) sponsors and conducts workshops, conferences, and related efforts to foster state-of-the-art knowledge transfer and application activities; (11) develops, implements, and evaluates a program to demonstrate effective communication, diffusion and knowledge exchange to help reduce substance abuse; (12) reviews and/or prepares clearance documents for all communication products developed by the Center; and (13) provides public affairs liaison with the Office of the Administrator, Office of Communications, and other HHS components.

F. Center for Substance Abuse Treatment (MT). The mission of the Center for Substance Abuse Treatment (CSAT) is to bring effective alcohol and drug treatment to every community. CSAT provides national leadership to expand the availability of effective treatment and recovery services for alcohol and drug problems; to improve access, reduce barriers and promote high quality effective treatment and recovery services for people with alcohol and drug problems, abuse, or addiction as well as for their families and communities. To accomplish this, the Center works to close the gap between available treatment capacity and demand; support adaptation and adoption of evidence-based and best practices by community-based treatment programs and services; and improve and strengthen substance abuse treatment organizations and systems.

1. Office of the Director (MT-1). (1) Provides leadership in planning, implementing, and evaluating the Centers goals and is the focal point for SAMHSA's effort to improve and expand substance abuse treatment services; (2) plans, directs, and provides overall administration for the programs of CSAT; (3) coordinates Center consumer education functions and develops consumer education strategies and materials; and (4) monitors the conduct of equal employment opportunity activities of CSAT.

2. Office of Program Analysis and Coordination (MTA). (1) Supports the Center's implementation of programs and policy by providing guidance in the administration, analysis, planning, and coordination of the Center's programs, consistent with agency priorities; (2) manages the Center's participation in the agency's policy planning, budget formulation, program development and clearance, and internal and external requests, including strategic planning, identification of program priorities, and other agency-wide and departmental planning activities; and (3) performs Center-specific functions such as impact analysis of proposed legislation and rule making, council management, support and liaison for administrative functions, special studies, data analysis and coordination, liaison for special populations/initiatives, GPRA reporting, performance partnerships, and regulatory activities.

3. Division of Services Improvement (MTB). (1) Develops, plans, implements, and monitors national treatment capacity expansion and knowledge adoption program designed to improve treatment services throughout the United States, including services in other systems of care; (2) provides leadership and guidance to CSAT on the organization and financing of services for substance abuse treatment, HIPAA, and adoption of evidence-based practices; (3) collaborates on the development of Guidance for Applications (GFAs) and Requests for Contracts for the national treatment capacity expansion and services improvement agenda; (4) monitors grants, cooperative agreements, contracts, interagency agreements, and memoranda of understanding for treatment capacity expansion, knowledge adoption, and services improvement; (5) supports the development and testing of performance measures for public and private managed care plans and other systems of care; (6) collects, analyzes, and disseminates data and information pertaining to public and private financing and expenditures for treatment services; (7) identifies the need for, develops, and provides technical assistance to grantees, other service providers and systems of care, and others on adoption of evidence-based practices, capacity expansion, and organization and financing of services; (8) establishes and maintains collaborative relationships with other Federal, State, and local governmental agencies, national organizations, and constituency groups; (9) maintains internal expertise and collaborates with national experts on the science-to-services agenda; (10) develops funding levels for Division programs and activities.

4. Office of Evaluation Scientific Analysis and Synthesis (MTC). (1) Oversees the design and plan for evaluation of CSAT programs; (2) serves as the focus for State and local data infrastructure development issues; (3) provides guidance and oversight of training services for treatment of professionals, such as the ATTC program; (4) provides leadership for the provision of technical assistance and consultative services on evaluation of the grant process, on data infrastructure development, and on training in the substance abuse treatment field; (5) provides leadership on workforce development activities; (6) collaborates with other Federal, State, and local agencies in workforce development, training, and data infrastructure activities; (7) maintains current expertise in the alcohol and drug treatment services and systems literatures as well as in related fields; (8) collaborates with all Branches in the Division of Services Improvement and the Division of State and Community Assistance in the implementation of monitoring and evaluation activities for grants and cooperative agreements, as well as on HIPAA implementation; (8) provides leadership for human research and participant protection programs; and (9) collaborates with other Federal, State, and local agencies, especially Institutes within NIH on science-to-service issues.

5. Division of State and Community Assistance (MTE). (1) Administers the Substance Abuse Block Grant Program, including oversight and approval of Block Grant applications and maintenance of effort (MOE) issues; (2) administers the Substance Abuse Performance Partnership Grant (PPG), negotiating PPG agreements with States; (2) monitors and ensures State compliance with legislative and regulatory provisions which apply to PPG funds at State and provider levels; (3) provides guidance and technical assistance to States in preparation of State substance abuse plans; (4) conducts performance reviews of State agencies and treatment programs; (5) works closely with data and evaluation to assure proper reporting and data integrity; (6) administers the State Incentive Grant program for co-occurring disorders and the TCE grant program for co-occurring disorders; (7) works collaboratively with the Division of Services Improvement on performance measurement, GPRA, and HIPAA issues.

6. Division of Pharmacologic Therapies (MTG). (1) Administers the day-to-day regulatory and oversight activities necessary to implement and enforce SAMHSA's opioid treatment program (methadone and LAAM) rules under 42 CFR part 8; (2) develops, plans, implements and monitors national technical assistance and training projects to improve OTP compliance with accreditation standards and requirements; (3) develops, plans, implements and monitors national projects designed to improve medication assisted substance abuse treatment throughout the United States and internationally; (4) develops, plans, implements and monitors Guidance for Applications (GFAs), grants, cooperative agreements, interagency agreements, memoranda of understanding, Requests for Contracts (RFCs), purchase orders and task orders for activities related to OTP certification and accreditation standards and processes; (5) administers the day-to-day regulatory and oversight activities of the Drug Addiction Treatment Act of 2000, including the development and implementation of regulatory actions, guidance on the use of medication assisted treatments, and OMB required information collection activities; (6) identifies needs, develops, and provides technical assistance to support the improvement of medication assisted addiction treatment; (7) establishes and maintains collaborative relationships with other Federal, State, and local government agencies, national organizations, and constituency groups involved in activities associated with medication assisted treatment; (8) maintains internal expertise and collaborates with national experts in the development of CSAT, SAMHSA and DHHS treatment standards and guidelines concerning medication assisted treatment; (9) provides national leadership and advice on medication assisted treatments and on related policy issues; (10) supports the Federal Interagency Narcotic Treatment Policy Review Board; and (11) develops funding levels for division programs and activities.

II. Section M.30, Order of Succession: During the absence or disability of the Administrator, SAMHSA, or in the event of a vacancy in that office, the first official listed below would perform the duties of the Administrator, except that during a planned period of absence, the Administrator may specify a different order of succession: (1) Deputy Administrator; and (2) Executive Officer, SAMHSA.

III. Section M.40, Delegations of Authority: All delegations and redelegations of authority to officers and employees of SAMHSA which were in effect immediately prior to the effective date of this restructuring and delayering shall continue in effect pending further redelegation, providing they are consistent with the reorganization.

These organizational changes are effective July 1, 2002.

Dated: June 25, 2002.
Charles Curie,
Administrator.

[FR Doc. 02-16940 Filed 7-5-02; 8:45 am]

BILLING CODE 4160-01-P